INTERNATIONAL TRADE COMMISSION

[Investigation Nos. 701-TA-499-500 and 731-TA-1215-1223 (Final)]

Certain Oil Country Tubular Goods From India, Korea, Philippines, Saudi Arabia, Taiwan, Thailand, Turkey, Ukraine, and Vietnam; Reopening of the Record and Request for Comments

AGENCY: United States International Trade Commission.

ACTION: Notice.

SUMMARY: The United States International Trade Commission (the Commission) hereby gives notice that it is reopening the record in these investigations for the purpose of considering new factual information. The U.S. Department of Commerce (Commerce) in a document dated August 11, 2014, amended its final determination in the investigation concerning oil country tubular goods (OCTG) from Saudi Arabia. On August 13, 2014, the Commission received a request on behalf HLD Clark Pipe Co., Inc. to reopen the record. The record will reopen on August 13, 2014 and will close on August 18, 2014. The Commission is not reopening the record for any purpose other than to receive Commerce's amended final determination and comments from any party on this new factual information. Parties may submit final comments on this information on or before Monday, August 18, 2014, but such final comments must not exceed 10 pages in length, must not contain any additional new factual information and must otherwise comply with section 207.30 of the Commission's rules. All written submissions must conform with the provisions of section 201.8 of the Commission's rules; any submissions that contain BPI must also conform with the requirements of sections 201.6, 207.3, and 207.7 of the Commission's rules. The Commission's Handbook on E-Filing, available on the Commission's Web site at http://edis.usitc.gov, elaborates upon the Commission's rules with respect to electronic filing.

In accordance with sections 201.16(c) and 207.3 of the Commission's rules, each document filed by a party to the investigations must be served on all other parties to the investigations (as identified by either the public or BPI service list), and a certificate of service must be timely filed. The Secretary will not accept a document for filing without a certificate of service.

DATES: Effective Date: August 13, 2014.

FOR FURTHER INFORMATION CONTACT: Michael Szustakowski (202-205-3169), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

Authority: These investigations are being conducted under authority of title VII of the Tariff Act of 1930; this notice is published pursuant to section 207.21 of the Commission's rules.

Dated: August 13, 2014.
By order of the Commission.
Lisa R. Barton,
Secretary to the Commission.

[FR Doc. 2014-19584 Filed 8-18-14; 8:45 am]

BILLING CODE 7020-02-P